DEPARTMENT OF COMMERCE

International Trade Administration

Applications for Duty-Free Entry of Scientific Instruments

Pursuant to section 6(c) of the Educational, Scientific and Cultural Materials Importation Act of 1966 (Pub. L. 89-651; 80 Stat. 897; 15 CFR part 301), we invite comments on the question of whether instruments of equivalent scientific value, for the purposes for which the instruments shown below are intended to be used, are being manufactured in the United States.

Comments must comply with 15 CFR 301.5(a)(3) and (4) of the regulations and be filed within 20 days with the Statutory Import Programs Staff, U.S. Department of Commerce, Washington, DC 20230. Applications may be examined between 8:30 a.m. and 5 p.m. in Room 4211, Department of Commerce, 14th Street and Constitution Avenue, NW., Washington, DC.

Docket Number: 00-024. Applicant: University of Washington, Department of Pathology, Box 356100, 1959 NE Pacific Street, Seattle, WA 98195-6100. Instrument: Laser Microdissection System. Manufacturer: P.A.L.M. Mikrolaser Technologie, Germany. Intended Use: The instrument is intended to be used for the study of human diseased and normal control tissues from surgical resections, autopsies and biopsy specimens, along with tissues and cells from animal and cell culture disease models. Two examples of specific experiments are: (1) Dissection of single neoplastic pancreatic cells from resection material systematically obtained from a single family inheriting autosomal dominant pancreatic cancer and (2) microdissection of cells and tissues with great accuracy and purity to generate cell-type-specific expression probes for genetic expression analysis using the recent advent of microarray DNA chip technology and proteomics. This instrument will be used by graduate and medical students for their various pathology research projects. Application accepted by Commissioner of Customs: August 2, 2000.

Docket Number: 00-025. Applicant: The Art Institute of Chicago, Conservation Department, 111 South Michigan Avenue, Chicago, IL 60603-6110. Instrument: Low Pressure Conservation Table with Accessories. Manufacturer: Willard Fine Art Conservation Equipment, United Kingdom. Intended Use: The instrument is intended to be used to test materials and develop new techniques for the treatment of paintings during conservation. Application accepted by Commissioner of Customs: August 2, 2000.

Gerald A. Zerdy,
Program Manager, Statutory Import Programs Staff.

[FR Doc. 00-21808 Filed 8-24-00; 8:45 am]

BILLING CODE 3510-DS-P